DEPARTMENT OF HOMELAND SECURITY

Coast Guard

33 CFR Part 165

[Docket No. USCG-2023-0938]

Safety Zone; Sausalito Lighted Boat Parade Fireworks Display, Richardson Bay, Sausalito, CA

AGENCY: Coast Guard, Department of Homeland Security (DHS).

ACTION: Notification of enforcement of regulation.

SUMMARY: The Coast Guard will enforce the safety zone in the navigable waters of Richardson Bay, off Sausalito, CA, in support of the Sausalito Lighted Boat Parade Fireworks Display. This safety zone is necessary to protect personnel, vessels, and the marine environment from the dangers associated with pyrotechnics. During the enforcement period, unauthorized persons or vessels are prohibited from entering into, transiting through, or remaining in the safety zone, unless authorized by the designated Patrol Commander (PATCOM) or other Federal, state, or local agencies on scene to assist the Coast Guard in enforcing the regulated area.

DATES: The regulations in 33 CFR 165.1191, will be enforced for the location in Table 1 to § 165.1191, Item number 30, from 7:15 p.m. through 9 p.m. on December 9, 2023.

FOR FURTHER INFORMATION CONTACT: If you have questions about this notification of enforcement, call or email LT William Harris, U.S. Coast Guard Sector San Francisco Waterways Management Division; telephone 415-399-7443, email SFWaterways@uscg.mil.

SUPPLEMENTARY INFORMATION: The Coast Guard will enforce the safety zone established in 33 CFR 165.1191, Table 1, Item number 30, for the Sausalito Lighted Boat Parade Fireworks on December 9, 2023. The Coast Guard will enforce a 600-foot safety zone around the fireworks vessel from 7:15 through 9 p.m. on December 9, 2023, while at the launch site off Sausalito Point. Beginning at 7:15 p.m. on December 9, 2023, 30 minutes prior to the commencement of the 15-minute fireworks display, the safety zone will encompass all navigable waters, from surface to bottom, surrounding the fireworks vessel near Sausalito Point in Sausalito, CA within a radius of 600 feet from approximate position 37°51′30.66″ N, 122°28′27.29″ W (NAD 83) for the Sausalito Lighted Boat Parade Fireworks Display as set forth in 33 CFR 165.1191, Table 1, Item number 30. The safety zone will be enforced from 7:15 p.m. through 9 p.m. on December 9, 2023.

In addition to this notification of enforcement in the Federal Register, the Coast Guard plans to provide notification of this enforcement period via the Local Notice to Mariners and Marine Information Broadcast.

Under the provisions of 33 CFR 165.1191, unauthorized persons or vessels are prohibited from entering into, transiting through, or anchoring in the safety zone during all applicable effective dates and times, unless authorized to do so by the PATCOM or other Official Patrol defined as Federal, State, or local law enforcement agency on scene to assist the Coast Guard in enforcing the regulated area. Additionally, each person who received notice of a lawful order or direction issued by the PATCOM or Official Patrol shall obey the order or direction. The PATCOM or Official patrol may, upon request, allow the transit of commercial vessels through regulated areas when it is safe to do so.

If the Captain of the Port determines that the regulated area need not be enforced for the full duration stated in this notice, a Marine Information Broadcast, an entry in the Local Notice to Mariners, or actual notice may be used to grant permission to enter the regulated area.

Dated: November 30, 2023.
Taylor Q. Lam,
Captain, U.S. Coast Guard, Captain of the Port San Francisco.

[FR Doc. 2023-26796 Filed 12-6-23; 8:45 am]

BILLING CODE 9110-04-P